DEPARTMENT OF THE INTERIOR

National Park Service

[NPS-WASO-NAGPRA-NPS0028652; PPWOCRADN0-PCU00RP14.R50000]

Notice of Inventory Completion: Robert S. Peabody Institute of Archaeology, Andover, MA

AGENCY: National Park Service, Interior.

ACTION: Notice.

SUMMARY: The Robert S. Peabody Institute of Archaeology (Peabody) has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Robert S. Peabody Institute of Archaeology. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Robert S. Peabody Institute of Archaeology at the address in this notice by October 3, 2019.

ADDRESSES: Ryan Wheeler, Robert S. Peabody Institute of Archaeology, Phillips Academy, 180 Main Street, Andover, MA 01810, telephone (978) 749-4490, email rwheeler@andover.edu.

SUPPLEMENTARY INFORMATION: Notice is here given in accordance with the Native American Graves Protection and Repatriation Act (NAGPRA), 25 U.S.C. 3003, of the completion of an inventory of human remains under the control of the Robert S. Peabody Institute of Archaeology, Andover, MA. The human remains were removed from four unknown sites in eastern Massachusetts.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Robert S. Peabody Institute of Archaeology professional staff in consultation with representatives of the Mashpee Wampanoag Tribe (previously listed as the Mashpee Wampanoag Indian Tribal Council, Inc.) and the Wampanoag Tribe of Gay Head (Aquinnah). The Assonet Band of the Wampanoag Nation, a non-federally recognized Indian group, also participated.

Hereafter, all Indian Tribes and groups are referred to as “The Consulted Indian Tribes and Groups”.

History and Description of the Remains

In 1992, human remains representing, at minimum, one individual were removed by archeologist Douglas Jordan from Unknown Massachusetts Site #1 and transferred to the Robert S. Peabody Institute of Archaeology (Cat. No. 90.116.1). The only information available was that the human remains were from eastern Massachusetts. Jordan (1925-2006) conducted archeological research in Massachusetts, Florida, and Connecticut, and served as Connecticut's state archeologist. The human remains from this site and Unknown Massachusetts Site #2, described below, were transferred to the Robert S. Peabody Institute of Archaeology to facilitate repatriation. Examination by physical anthropologist Michael Gibbons found that the human remains belong to an adult male. No known individuals were identified. No associated funerary objects were present. Gibbons estimated that 600 years or more had elapsed since death.

In 1992, human remains representing, at minimum, one individual were removed by archeologist Douglas Jordan from Unknown Massachusetts Site #2 and transferred to the Robert S. Peabody Institute of Archaeology (Cat. No. 90.116.2). A note in the associated files written by the late Eugene Winter, long-time volunteer at the Robert S. Peabody Institute of Archaeology, states that the human remains originated with Ernest E. Tyzzer, who passed them on to Jordan with other human remains from Maine. Tyzzer (1875-1965) was a physician, pathologist, and parasitologist at Harvard University and an avocational archeologist; he conducted archeological research in Massachusetts and Maine. In the 1990s, Peabody staff determined that the individual was most likely from eastern Massachusetts. Examination by physical anthropologist Michael Gibbons found that the human remains belong to a juvenile of indeterminate sex. No known individuals were identified. No associated funerary objects were present.

On an unknown date, human remains representing, at minimum, one individual were removed by Ernest E. Tyzzer from Unknown Massachusetts Site #3. The human remains were transferred to the Robert S. Peabody Institute of Archaeology (Cat. No. 262/492) on May 5, 1968 by the estate of Ernest E. Tyzzer. The only information known about the human remains is that they are from eastern Massachusetts. Examination by physical anthropologist Michael Gibbons found that the human remains belong to an adult male. No known individuals were identified. No associated funerary objects were present. Gibbons estimated that 400 years or more had elapsed since death.

On an unknown date, human remains representing, at minimum, one individual were removed by Ernest E. Tyzzer from Unknown Massachusetts Site #4. The human remains were transferred to the Robert S. Peabody Institute of Archaeology (Cat. No. 262/2663 and 262/2664) on May 5, 1968 by the estate of Ernest E. Tyzzer. The only information known about the human remains is that they are from eastern Massachusetts. Examination by physical anthropologist Michael Gibbons found that the human remains belong to an adult male, 20-25 years old. No known individuals were identified. No associated funerary objects were present. Gibbons estimated that 500 years or more had elapsed since death.

Sites in eastern Massachusetts lie within the historically documented territory of the Wampanoag (see Frank Gouldsmith Speck's 1928 monograph, “Territorial Subdivisions and Boundaries of the Wampanoag, Massachusett, and Nauset Indians,” Indian Notes and Monographs No. 44, 1928). Linguistically, this area is within the so-called n-dialect shared by Massachusett, Wampanoag, and Pokanoket speakers (see map and discussion in Kathleen J. Bragdon's 2009 book, Native Peoples of Southern New England, 1650-1775, pages 22-23). Sociopolitical and economic patterns in the coastal area of Rhode Island and Massachusetts were established by the late Woodland period circa A.D. 1000, and the coastal groups in this area are likely the ancestors of the Wampanoag people encountered by the English in the seventeenth century. Archeology, ethno-history, linguistics, and oral history provide multiple lines of evidence that demonstrate longstanding ties between the Wampanoag and archeological sites in eastern Massachusetts, and affirm affiliation with the human remains described here.

Determinations Made by the Robert S. Peabody Institute of Archaeology

Officials of the Robert S. Peabody Institute of Archaeology have determined that:

• Pursuant to 25 U.S.C. 3001(9), the human remains described in this notice represent the physical remains of four individuals of Native American ancestry.

• Pursuant to 25 U.S.C. 3001(2), there is a relationship of shared group identity that can be reasonably traced between the Native American human remains and the Mashpee Wampanoag Tribe (previously listed as the Mashpee Wampanoag Indian Tribal Council, Inc.); Wampanoag Tribe of Gay Head (Aquinnah), and, if joined, the Assonet Band of the Wampanoag Nation, a non-federally recognized Indian group.

Additional Requestors and Disposition

Lineal descendants or representatives of any Indian Tribe or Native Hawaiian organization not identified in this notice that wish to request transfer of control of these human remains should submit a written request with information in support of the request to Ryan Wheeler, Robert S. Peabody Institute of Archaeology, Phillips Academy, 180 Main Street, Andover, MA 01810, telephone (978) 749-4490, email rwheeler@andover.edu, by October 3, 2019. After that date, if no additional requestors have come forward, transfer of control of the human remains to The Consulted Indian Tribes and Groups (if the Indian group is joined to the request of one or both of the Consulted Indian Tribes) may proceed.

The Robert S. Peabody Institute of Archaeology is responsible for notifying The Consulted Indian Tribes and Groups that this notice has been published.

Dated: August 6, 2019.
Melanie O'Brien,
Manager, National NAGPRA Program.

[FR Doc. 2019-18861 Filed 8-30-19; 8:45 am]

BILLING CODE 4312-52-P